SOCIAL SECURITY ADMINISTRATION

Privacy Act of 1974 as Amended; Computer Matching Program (SSA and State/Local Law Enforcement Agencies (SA)—Match Number 5001

AGENCY: Social Security Administration (SSA).

ACTION: Notice of a renewal of a computer matching program.

SUMMARY: In accordance with the provisions of the Privacy Act, as amended, this notice announces a renewal of a computer matching program that SSA will conduct with SA.

DATES: SSA will file a report of the subject matching program with the Committee on Governmental Affairs of the Senate, the Committee on Government Reform of the House of Representatives and the Office of Information and Regulatory Affairs, Office of Management and Budget (OMB). The matching program will be effective as indicated below.

ADDRESSES: Interested parties may comment on this notice either by telefax to (410) 965-8582 or writing to the Associate Commissioner for Income Security Programs, 245 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: August 6, 2004.
Martin H. Gerry,
Deputy Commissioner for Disability and Income Security Programs.

Notice of Computer Matching Program, Social Security Administration (SSA) With State/Local Law Enforcement Agencies (SA)

A. Participating Agencies

SSA and SA.

B. Purpose of the Matching Program

The purpose of this matching program is to establish conditions under which SA agree to disclose fugitive felon, parole, or probation violator information to SSA. SSA will use this information to determine eligibility under Title II, Title VIII, and Title XVI of the Social Security Act and to select representative payees.

C. Authority for Conducting the Matching Program

This matching operation is carried out under the authority of sections 202(x)(1)(A)(iv) and (v), 202(x)(3), 205(j)(2), 804(a)(2), 807(b) and 1611(e)(4) and (5) of the Social Security Act.

D. Categories of Records and Individuals Covered by the Matching Agreement

SA will submit names and other identifying information of individuals who are fugitive felons or parole or probation violators. The Master Files of Social Security Number (SSN) Holders and SSN Applications (SSA/OEEAS 60-0058) contains the SSN's and identifying information for all SSN holders. The Master Beneficiary Record (SSA/ORSIS 60-0090) and the Supplemental Security Income Record/ Special Veterans’ Benefits (SSA/OEEAS 60-0103) contains beneficiary and payment information. The Master Representative Payee File (60-0222) contains information on individuals acting in a representative payee capacity. SSA will match data from these System of Records with data received from the SAs as a first step in detecting certain fugitive felons or probation or parole violators who should not be receiving RSDI, SSI and/or SVB.

E. Inclusive Dates of the Match

The matching agreement for this program shall become effective no sooner than 40 days after notice of the matching program is sent to Congress and the Office of Management and Budget (OMB) or 30 days after publication of this notice in the Federal Register whichever is later. The matching program will continue for 18 months from the effective date and may be extended for an additional 12 months thereafter, if certain conditions are met.

[FR Doc. 04-18522 Filed 8-12-04; 8:45 am]

BILLING CODE 4191-02-P